DEPARTMENT OF ENERGY

Federal Energy Regulatory Commission

[Project Nos. 2618-020-ME; 2660-024-ME]

Woodland Pulp LLC; Notice of Availability of Final Environmental Assessment

In accordance with the National Environmental Policy Act of 1969 and the Federal Energy Regulatory Commission's (Commission) regulations, 18 CFR part 380 (Order No. 486, 52 FR 47897), the Office of Energy Projects has reviewed the applications for new licenses for the West Branch Project (FERC Project No. 2618) and the Forest City Project (FERC Project No. 2660). The West Branch Project is located on the West Branch of the St. Croix River in Penobscot, Washington, and Hancock Counties, Maine. The Forest City Project is located on the East Branch of the St. Croix River in Washington and Aroostook Counties, Maine.

Staff prepared a multi-project final environmental assessment (EA), which analyzes the potential environmental effects of licensing the projects, and concludes that licensing the projects, with appropriate environmental protective measures, would not constitute a major federal action that would significantly affect the quality of the human environment.

A copy of the final EA is on file with the Commission and is available for public inspection. The final EA may also be viewed on the Commission's Web site at http://www.ferc.gov using the “eLibrary” link. Enter the docket number, excluding the last three digits, in the docket number field, to access documents. For assistance, contact FERC Online Support at FERCOnlineSupport@ferc.gov or toll-free at 1-866-208-3676, or for TTY, (202) 502-8659. You may also register online at http://www.ferc.gov/docs-filing/esubscription.asp to be notified via email of new filings and issuances related to these or other pending projects. For assistance, contact FERC Online Support.

For further information, contact Amy Chang at (202) 502-8250 or amy.chang@ferc.gov.

Dated: January 20, 2015.
Kimberly D. Bose,
Secretary.

[FR Doc. 2015-01496 Filed 1-27-15; 8:45 am]

BILLING CODE 6717-01-P